DEPARTMENT OF HEALTH AND HUMAN SERVICES

Program Support Center

Statement of Organization, Functions, and Delegations of Authority

Part P (Program Support Center) of the Statement of Organization, Functions and Delegations of Authority for the Department of Health and Human Services (60 FR 51480, October 2, 1995, and as last amended at 67 FR 49947 dated August 1, 2002) is amended to reflect changes in Chapters PA, PB and PH, within the Program Support Center (PSC), Department of Health and Human Services (HHS). The restructuring of information technology resources will benefit the Department by realigning PSC business systems with PSC business owners to achieve greater efficiencies, help to control costs, and enhance customer satisfaction. The human resources restructuring will align functions to facilitate more effective partnering with current and future customers and will facilitate the transition of the planned consolidation of human resources offices throughout the Department. The changes are as follows:

I. Under Part P, Section P-10, Organization, delete the following in its entirety:

5. Information Resources Management Service (PH).

II. Under Section P-20, Functions, make the following changes:

A. Under Chapter PA, retitle the Immediate Office of the Director (PA), as the Immediate Office of the Deputy Assistant Secretary for Program Support (PA).

B. Under Chapter PH, “Information Resources Management Service,” delete in its entirety.

D. Under Chapter PA, establish the Office of Information Technology (PAE):

Section PAE.00 Mission: Office of Information Technology (PAE). The Office (1) Serves as the focal point within the PSC for planning, organizing, coordinating, implementing and managing the activities required to maintain an agency-wide information technology (IT) program in compliance with the Clinger-Cohen Act, Paperwork Reduction Act, HHS Chief Information Officer guidance, and other related Federal guidance and best practices; (2) Develops and implements PSC-wide IT policy; (3) Manages and directs the operation of the PSC's IT infrastructure, data communication networks, and enterprise infrastructure while executing some production operations at the PSC and Departmental levels; (4) Oversees PSC corporate level IT support services or initiatives; (5) Reviews and coordinates technology program initiatives, ensuring secure interoperability among systems and reducing system redundancy; (6) Establishes and manages the PSC-wide Security Program; (7) Recommends emerging information technology to improve the productivity, effectiveness, and efficiency of PSC programs; (8) Provides customer liaison services to resolve issues and improve technology support; (9) Manages audit liaison services for all SAS 70 audits conducted within the PSC; (10) Oversees the IT Continuity of Operations Program for PSC IT systems; and (11) Monitors and evaluates the performance of PSC information resource investments through a capital planning and investment control process including budget and acquisition management.

Section PAE.10 Organization. The Office of Information Technology (PAE) consists of the following components:

• Office of the Director

• Information Systems Security Division (PAE1)

• Technology Support Services Division (PAE2)

• Resources Planning and Management Division (PAE3)

Section PAE.20 Functions. 1. Office of the Director: (1) Provides leadership and overall management for information technology resources for which PSC has responsibility; (2) Directs the development, implementation, and enforcement of the PSC's information technology architecture, policies, standards, and acquisitions in all areas of information technology; (3) Oversees PSC's information systems security program, assuring compliance with the Federal Information Systems Management Act and other Federal and HHS guidance; (4) Oversees and advises the PSC's IT business technology functions including business planning, development, budgeting and fiscal planning, establishing service level agreements, assessing customer satisfaction, and assuring compliance with the Government Performance and Results Act (GPRA); (5) Oversees capital planning and investment control (CPIC) for PSC IT initiatives; (6) Chairs the PSC Information Technology Review Board (ITRB); (7) Oversees the PSC-wide IT systems Continuity of Operations Program (COOP); and (8) Oversees audit liaison services for all SAS 70 audits conducted within the PSC.

2. Information Systems Security Division (PAE1): (1) Manages the PSC-wide Information Technology Security Program; (2) Develops and implements PSC-wide IT security policy; (3) Oversees Certification and Accreditation of all critical PSC systems, including assisting program managers in preparing/revising certification packages to acquire or retain approval to operate; (4) Establishes and implements the PSC Security Awareness Program, including security training and awareness oversight; (5) Oversees the PSC wide Incidence Response Program, including investigation of reported IT security incidents and appropriate disposition, e.g., reporting incidents to higher levels and external organizations, if warranted; (6) Manages the PSC-wide IT systems Continuity of Operations Program (COOP); and (7) Manages audit liaison services for SAS 70 audits conducted within the PSC.

3. Technology Support Services Division (PAE2): (1) Designs, obtains, installs, and maintains all Local Area Network (LAN) capabilities within the PSC for application and office automation support; (2) Provides all electronic mail and third party software support; (3) Designs, obtains, installs, and maintains all communication and Wide Area Network (WAN) connectivity capabilities within the PSC; (4) Establishes and maintains a help desk for desktop support; (5) Provides system administration functions; (6) Schedules, operates, and maintains production processes for some PCS applications; (7) Provides customer liaison services to resolve issues and improve customer service; (8) Designs, obtains, installs, and maintains computer and network systems including hardware, software, and data communications required to support human resources, financial management, and administrative automated systems; (9) Provides automated data processing management services for computer systems in local operational offices; (10) Supports the implementation of the PSC's information system security program, including documenting and reporting security breaches; (11) Manages PSC corporate level IT support services or initiatives; (12) Manages Web site hosting and design PSC-wide; and (13) Designs, develops, and maintains PSC Web applications and pages.

4. Resources Planning and Management Division (PAE3): (1) Oversees and manages overall IT budgeting and fiscal planning; (2) Facilitates, supports, and executes the capital planning and investment process and portfolio management; (3) Coordinates and manages the development and execution of the 5-year Information Resources Management (IRM) planning process; (4) Serves as the focal point for IT architecture planning; (5) Develops, implements, and oversees adherence to IT policy; (6) Plans, coordinates, manages and reports on activities required by the Government Paperwork Elimination Act (GPEA) and Government Performance and Results Act (GPRA); (7) Oversees E-Government initiatives; (8) Monitors and evaluates IT Customer Satisfaction; (9) Reviews and oversees all PSC acquisitions and IT acquisitions initiatives; (10) Oversees and evaluates Section 508 compliance throughout the PSC.

III. Delete all organizational units for the Human Resources Service (PB) in their entirety except the Division of Commissioned Personnel (PBJ), and replace with the following:

Section PB.10 Mission. Human Resources Service (PB): The Service: (1) Operates a servicing personnel office for a variety of customers; (2) Provides human resources operating systems and management information to HHS program managers and personnel offices; (3) Operates and maintains a Department-wide centralized payroll system; (4) Provides centralized common needs training; (5) Provides Executive Secretariat/Executive Director services for the Board for Correction of PHS Commissioned Corps Records; (6) Operates a servicing equal employment opportunity function; and (7) Manages the Departmental EEO complaints processing program.

Section PB.20 Organization: The Human Resources Service (PB) consists of the following components:

• Office of the Director (PBA)

• Division of Payroll (PBG)

• Division of Commissioned Personnel (PBJ)

• Division of Personnel Operations (PBN)

• Division of Equal Employment Opportunity (PBP)

• HHS University (PBQ)

• Enterprise Applications Division (PBR)

• Systems Integrity and Quality Assurance Division (PBY)

1. Office of the Director (PBA): (1) Provides executive direction, leadership, guidance and support to all Human Resources Service (HRS) components; (2) Provides leadership of a multi-customer, competitive, fee-for-service, cost centered organization; (3) Directs the human resources program for the PSC; (4) Provides leadership for the Board for Correction of PHS Commissioned Corps Records; (5) Provides systems integrity and quality assurance functions including acceptance testing for all new systems/subsystems, major enhancements and systems changes for the human resources information system; (6) Ensures all information necessary for yearly SAS 70 audits is provided, and works with OIT audit liaison staff to resolve any associated issues and findings; and (7) Works with PSC Office of Information Technology staff to ensure appropriate Continuity of Operations measures are in place for systems owned by HRS.

2. Division of Payroll (PBG): (1) Administers the Department's centralized payroll systems; (2) Manages and conducts payroll accounting, reconciliation and pay adjustments processing, produces feeder reports for HHS accounting systems, and carries out the Department's employee debt collection program; (3) Processes all actions relative to separated employees, including retirement and other separation actions, maintains retirement records and processes death benefit claims; (4) Audits leave accounts and processes unemployment compensation actions; (5) Provides direction, technical assistance, standard operating procedures, manuals and training for IMPACT operators, timekeepers, designated agents, payroll liaison persons and other persons who input data or who use outputs from the personnel and payroll systems; (6) Diagnoses problems and devises solutions to systemic problems and inefficiencies; and (7) Provides required information and works with the PSC Office of Information Technology to resolve audit-related issues and findings.

3. Division of Personnel Operations (PBN): (1) Administers comprehensive human resources management and employee/labor relations services for the Program Support Center (PCS), and its customers; (2) Develops and implements strategies and processes to ensure the progression of the Division of Personnel Operations in its role as a multi-customer, competitive, fee-for-service cost center; (3) Provides a full range of personnel operations services and consultations on human resources activities; (4) Provides expert managerial advisory services including analyzing employee resources, forecasting future requirements, and coordinating policy to meet Departmental mission and public interest needs; (5) Provides consultative services and expert advice to organizations affecting change management activities; and (6) Administers special initiative programs.

4. Division of Equal Employment Opportunity (PBP): (1) Encourages and assists the PSC and its other customers in voluntarily taking affirmative steps to correct the effects of past discrimination and prevent present and future discrimination without resorting to litigation or other formal governmental action; (2) Works toward achieving the Federal and the HHS goal of having a fully representative workforce which includes members of all racial and ethnic groups as well as people with disabilities; (3) Administers special emphasis/diversity programs designed to accommodate the special needs of particular groups. This includes programs such as the Hispanic Employment Program, the Federal Women's Program, the People with Disabilities Program, and programs concerning African Americans, Asian Americans/Pacific Islanders, and American Indians/Alaska Natives; (4) Seeks to identify and eliminate discriminatory policies and practices from the workforce based on race, national origin, color, sex, age, religion, disability, sexual orientation and/or reprisal; (5) Promotes the early resolution of complaints of discrimination, and provides for the prompt, fair and impartial processing of discrimination complaints; and (6) Manages the Departmental EEO complaints processing program.

5. HHS University (PBQ): Develops and manages the Department's training and workforce development functions with responsibility for the following: (1)

Develops and manages the Department's on-line training program; (2) Develops and implements a service designed to facilitate the Department-wide matching of deployed employees with appropriate positions; (3) Provides career counseling services for Departmental employees; (4) Develops and delivers common needs training; (5) Develops and implements a learning management system; (6) Manages workforce development initiatives to support Departmental common needs training; and (7) Facilitates cross-departmental utilization of mission training being provided by the HHS Operating Divisions.

6. Enterprise Applications Division (PBR): The Division provides the full range of automated data processing support activities associated with the development and maintenance of both civilian and commissioned officer's human resources information technology systems: (1) Provides overall program leadership and direction to the operation of the enterprise personnel and payroll system for the Department; (2) Develops and implements new human resources and payroll systems; (3) Conducts analysis and design of systems changes, enhancements and new requirements; (4) Provides the full range of support activities associated with the development and maintenance of personnel/payroll processing and reporting systems; (5) Provides automation services for the HHS automated personnel and payroll systems and subsystems; (6) Manages the operation of production for the civilian personnel and payroll processing systems; (7) Provides human resource and human resource systems customer liaison services to resolve issues and improve customer services; and (8) Provides required information and works with the PSC Office of Information Technology to resolve audit-related issues and findings.

7. Systems Integrity and Quality Assurance Division (PBY): Primary functions of SIQAD include: (1) Implements and operates Configuration Management services including change management, software version control, and design of automated systems to reduce errors and support parallel and concurrent development; (2) Manages software/system acceptance testing, quality assurance reviews, Independent Verification and Validation (IV&V), and quality control functions for all human resources systems/subsystems including major enhancements and systems changes for PSC applications and infrastructure; (3) Ensures the integrity of HR production environments; (4) Provides systems integrity and quality assurance services to other PSC organizations as required; (5) Administers HRS accounts residing on the National Institutes of Health mainframe and IBM Resource Access Control Facility (RACF) protection of files within those accounts; and (6) Provides required information and works with the PSC Office of Information Technology to resolve audit-related issues and findings.

Dated: February 4, 2003.
Ed Sontag,
Assistant Secretary for Administration and Management.

[FR Doc. 03-3998 Filed 2-12-03; 8:45 am]

BILLING CODE 4168-17-M